DEPARTMENT OF LABOR

Office of Federal Contract Compliance Programs

Proposed Extension of the Approval of Information Collection Requirements

AGENCY: Office of Federal Contract Compliance Programs, Labor.

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95). 44 U.S.C. 3506(c)(2)(A). This program helps to ensure that requested data can be provided in the desired format, reporting burden (time and financial resources) is minimized, collection instruments are clearly understood, and the impact of collection requirements on respondents can be properly assessed. Currently, the Office of Federal Contract Compliance Programs is soliciting comments concerning its proposal to extend the Office of Management and Budget (OMB) approval of the Information Collection: Complaint Form CC-4, Complaint of Employment Discrimination by Federal Government Contractors and Subcontractors. A copy of the proposed information collection request can be obtained by contacting the office listed below in the FOR FURTHER INFORMATION CONTACT section of this Notice.

DATES: Written comments must be submitted to the office listed in the addresses section below on or before April 7, 2014.

ADDRESSES: You may submit comments, identified by Control Number 1250-0002, by either one of the following methods:

Electronic comments: Through the federal eRulemaking Portal at http://www.regulations.gov. Follow the instructions for submitting comments.

Mail, Hand Delivery, Courier: Address comments to Debra Carr, Director, Division of Policy, Planning and Program Development, Office of Federal Contract Compliance Programs, 200 Constitution Avenue NW., Room C3325, Washington, DC 20210. Telephone: (202) 693-0103 (voice) or (202) 693-1337 (TTY).

Instructions: Please submit one copy of your comments by only one method. All submissions received must include the agency name and OMB Control Number identified above for this information collection. Because we continue to experience delays in receiving mail in the Washington, DC area, commenters are strongly encouraged to either transmit their comments electronically via the regulations.gov Web site or mail their comments early to ensure that they are timely received. Comments, including any personal information provided, become a matter of public record and will be posted to the regulations.gov Web site. They will also be summarized and/or included in the request for Office of Management and Budget approval of the information collection request.

FOR FURTHER INFORMATION CONTACT: Debra Carr, Director, Division of Policy, Planning and Program Development, Office of Federal Contract Compliance Programs, 200 Constitution Avenue NW., Room C3325, Washington, DC 20210. Telephone: (202) 693-0103 (voice) or (202) 693-1337 (TTY) (these are not toll-free numbers). Copies of this notice may be obtained in alternative formats (e.g. Large Print, Braille, Audio Tape or Disc), upon request, by calling (202) 693-0103 (not a toll-free number). TTY/TDD callers may call (202) 693-1337 (not a toll-free number) to obtain information or request materials in alternative formats.

SUPPLEMENTARY INFORMATION: I. Background: The Office of Federal Contract Compliance Programs (OFCCP) administers two equal opportunity laws and an Executive Order that prohibit discrimination based on race, color, religion, sex, national origin, disability, and status as a protected veteran by Federal contractors and subcontractors and require affirmative action to provide equal employment opportunity: Executive Order 11246, as amended; Section 503 of the Rehabilitation Act of 1973, as amended (Section 503) and 38 U.S.C. 4212, the Vietnam Era Veteran's Readjustment Assistance Act of 1974, as amended (VEVRAA). No private right of action exists under the three programs that are enforced by the U.S. Department of Labor (DOL), i.e. a private individual may not bring a lawsuit against an employer (or prospective employer) for noncompliance with its contractual obligations under the laws enforced by OFCCP. However, any employee or applicant for employment with a Federal Government contractor or subcontractor may file a complaint with the Department of Labor, OFCCP alleging discrimination by completing a Complaint of Employment Discrimination by Federal Government Contractors or Subcontractors form (CC-4).¹ OFCCP investigates the complaint but retains the discretion whether to pursue administrative or judicial enforcement. If a complaint filed under Executive Order 11246, as amended, involves discrimination against only one person, the OFCCP may refer it to the U.S. Equal Employment Opportunity Commission (EEOC). Such referrals are made under a Memorandum of Understanding between the two federal agencies. OFCCP generally investigates complaints that involve groups of people or indicate patterns of discrimination. In addition, OFCCP also investigates individual or group complaints filed under Section 503 and VEVRAA.

¹ Formerly Complaint of Discrimination in Employment Under Federal Government Contracts.

Under Executive Order 11246, as amended, the authority for collection of complaint information is Section 206(b). The implementing regulations which specify the content of this information collection are found at 41 CFR 60-1.23(a).

Under the Vietnam Era Veterans' Readjustment Assistance Act of 1974, as amended, the authority for collecting complaints information is at 38 U.S.C. 4212(b). The implementing regulations which specify the content of this information collection are found at 41 CFR 60-250.61(b) and 41 CFR 60-300.61(b). Section 503 of the Rehabilitation Act of 1973, as amended, is the authority for collecting complaint information under the statute. The implementing regulations which specify the content of this information collection are found at 41 CFR 60-741.61(c). This information collection request covers the recordkeeping and reporting requirements for the complaint form CC-4. A separate information collection request covers the recordkeeping and reporting requirements for supply and service industries, and is approved under OMB 1250-0003.

II. Review Focus: The DOL is particularly interested in comments which:

• Evaluate whether the proposed collection of information is necessary for the proper performance of the functions of the agency, including whether the information will have practical utility;

• evaluate the accuracy of the agency's estimate of the burden of the proposed collection of information, including the validity of the methodology and assumptions used;

• enhance the quality, utility and clarity of the information to be collected; and

• minimize the burden of the collection of information on those who are to respond, including through the use of appropriate automated, electronic, mechanical, or other technological collection techniques or other forms of information technology, e.g., permitting electronic submissions of responses.

III. Current Actions: The DOL seeks the approval of the extension of this information in order to carry out its responsibility to enforce the affirmative action and non-discrimination provisions of the three Authorities, which it administers.

Type of Review: Renewal.

Agency: Office of Federal Contract Compliance Programs.

Title: Complaint Form CC-4, Complaint of Employment Discrimination by Federal Government Contractors or Subcontractors.

OMB Number: 1250-0002.

Agency Number: None.

Affected Public: Business or other for-profit, Not-for-profit institutions.

Total Respondents: 747.

Total Annual Responses: 747.

Average Time per Response: 1.0 hours.

Estimated Total Burden Hours: 747.

Frequency: On occasion.

Total Burden Cost (capital/startup): $0.

Total Burden Cost (operating/maintenance): $52.50.

Comments submitted in response to this notice will be summarized and/or included in the request for Office of Management and Budget approval of the information collection request; they will also become a matter of public record.

Dated: January 24, 2014.
Debra A. Carr,
Director, Division of Policy, Planning and Program Development, Office of Federal Contract Compliance Programs.

SUPPORTING STATEMENT

DEPARTMENT OF LABOR

OFFICE OF FEDERAL CONTRACT COMPLIANCE PROGRAMS

AGREEMENT APPROVAL PROCESS FOR USE OF COMPLAINT FORM CC-4

OMB No. 1250-0002

A. JUSTIFICATION

EXPLAIN THE CIRCUMSTANCES THAT MAKE THE COLLECTION OF INFORMATION NECESSARY.

The Office of Federal Contract Compliance Programs (OFCCP) administers two equal employment laws and an Executive Order that prohibit discrimination based on race, color, religion, sex, national origin, disability, and status as a protected veteran by Federal contractors and require affirmative action to provide equal employment opportunity.

• Executive Order 11246, as amended (EO 11246),²

² The authority for collection of complaint information is Section 206 (b) of the Executive Order. The implementing regulations which specify the content of this information collection are found at 41 CFR 60-1.23 (a).

• Section 503 of the Rehabilitation Act of 1973, as amended (Section 503),³ and

³ The authority for collecting complaint information under this statute is Section 503 (d) of the Act. The implementing regulations which specify the content of this information collection are found at 41 CFR 60-741.61 (c).

• The Vietnam Era Veterans' Readjustment Assistance Act of 1974, as amended, 38 U.S.C. 4212 (VEVRAA).⁴

⁴ The authority for collecting complaint information under this statute is 38 U.S.C. 4212 (d). The implementing regulations which specify the content of this information collection are found at 41 CFR 60-300.61 (b).

EO 11246 prohibits employment discrimination on the basis of race, color, religion, sex, or national origin. EO 11246 applies to Federal contractors and subcontractors, and to federally-assisted construction contractors and subcontractors holding a Federal Government contract or subcontract of more than $10,000, or Federal Government contracts or subcontracts that have, or can reasonably expect to have, an aggregate total value exceeding $10,000 in a 12-month period. EO 11246 also applies to Federal Government bills of lading, depositories of Federal funds in any amount, and to financial institutions that are issuing and paying agents for U.S. Savings Bonds.

Section 503 prohibits employment discrimination on the basis of disability, and requires Federal contractors and subcontractors to take affirmative action to hire and promote qualified individuals with disabilities. Its requirements apply to Federal contractors and subcontractors with a Federal Government contract or subcontract in excess of $10,000.

The affirmative action provisions of VEVRAA prohibit employment discrimination against protected veterans and require Federal contractors and subcontractors to take affirmative action to hire and promote protected veterans. Its requirements apply to Federal contractors and subcontractors with a Federal Government contract or subcontract of $100,000 or more.

These programs require affirmative action by Federal contractors and subcontractors and prohibit discrimination on the basis of race, color, sex, religion, national origin, status as a qualified individual with a disability and protected veteran. No private right of action exists under the three OFCCP programs, i.e., a private individual may not bring a lawsuit against an employer or prospective employer for noncompliance with its obligations under the laws enforced by OFCCP. However, any employee or applicant for employment with a Federal contractor or subcontractor may file a complaint with OFCCP alleging discrimination or lack of affirmative action ⁵ by completing a complaint form. OFCCP investigates the complaint but retains the discretion whether to pursue administrative or judicial enforcement.

⁵ Under Section 503 of the Rehabilitation Act of 1973 and the Vietnam Era Veterans' Act of 1974 individuals may file a complaint based on a contractor's failure to take affirmative action.

To file a complaint with OFCCP, a complainant may either complete a complaint form or send a letter including the name, address, and telephone number of the complainant, the name and address of the contractor or subcontractor and a description of the acts considered to be discriminatory and any other pertinent information. To facilitate this process, OFCCP provides a complainant with a complaint form (CC-4) which is currently titled “Complaint of Discrimination in Employment Under Federal Government Contracts.” We are proposing to change its name to “Complaint of Discrimination in Employment by Federal Contractors or Subcontractors” to give users a better understanding of the purpose of the form and its use. As a part of this ICR package, OFCCP is also proposing to revise and update its complaint form to make it easier to understand and complete, to use plain language, and to remove the impression that complainants must expressly establish OFCCP's jurisdiction when submitting the complaint form or the complaint will be summarily rejected.

In investigating complaints it receives, under EO 11246, OFCCP may refer complaints to the U.S. Equal Employment Opportunity Commission (EEOC) that involve discrimination against only one person. Such referrals are made under Memoranda of Understanding between the two Federal agencies. Complaints that involve groups of people or indicate patterns of discrimination are generally retained and investigated by the OFCCP. Additionally, if a complaint filed under Section 503 involves allegations of disability discrimination along with allegations of individual complaints of race, color, religion, sex, national origin, or age discrimination, OFCCP will refer the complaint to EEOC. Such referrals are made under a joint regulation with EEOC.⁶ OFCCP also investigates individual or group complaints filed under VEVRAA.

⁶ 41 CFR 60-742.5 (d) and 29 CFR 1641.5 (e).

2. USE OF MATERIALS

The complaint information collection form (CC-4) is used by OFCCP staff as the first step in the initiation of a complaint investigation. If the complaint is timely, and appears to raise discrimination or retaliation issues that fall within OFCCP's jurisdiction, then a complaint investigation is initiated. A standardized form helps guide complainants in providing important information about their alleged discrimination and reduces the time it takes OFCCP staff to determine jurisdiction. This form improves efficiency in responding to complainants and in initiating investigations.

3. IMPROVED INFORMATION TECHNOLOGY

In accordance with the Government Paperwork Elimination Act (GPEA), the complaint form is available on the OFCCP's Web site with information regarding its use and where it should be mailed. The CC-4 is available on the Internet for downloading or electronic submission at http://www.dol.gov/ofccp/regs/compliance/pdf/English.pdf.

4. DESCRIPTION OF EFFORTS TO IDENTIFY DUPLICATION

Information collected on the complaint form is unique to the individual complainant and no duplication is possible.

5. COLLECTION OF INFORMATION IMPACT ON SMALL BUSINESSES OR OTHER ENTITIES

Complaints are made solely by nonbusiness entities, usually individuals. This information collection does not have a significant economic impact on a substantial number of small entities.

6. CONSEQUENCES TO FEDERAL PROGRAMS IF THIS INFORMATION WERE COLLECTED LESS FREQUENTLY

There is no schedule for collection of this information. This information is collected solely, usually from individuals on an “as needed” basis.

7. SPECIAL CIRCUMSTANCES FOR THE COLLECTION OF INFORMATION

There are no special circumstances for the collection of this information.

8. CONSULTATION OUTSIDE THE AGENCY

[Place holder for analysis of comments received during the comment period.]

9. GIFT GIVING

OFCCP provides neither payments nor gifts to respondents.

10. ASSURANCE OF CONFIDENTIALITY

Confidentiality is maintained to comply with the Privacy Act. However, a copy of the complaint form may be provided to the contractor and the information contained on the form may be used in the course of settlement negotiations with the contractor and/or in the course of presenting possible disclosure to opposing counsel. Before providing a copy of the complaint form, the agency redacts it to protect confidential information such as the name and other information that would easily identify someone other than the complainant who might suffer retaliation, be construed as an informer, or suffer embarrassment or other unwarranted invasion of privacy; obscene, inflammatory or libelous language; names and allegations against more than one company (delete the name and allegations against company #1, from the complaint copy provided to company #2, and vice versa); and identifying characteristics of individuals in a third party complaint (e.g., description of unique characteristics, unique job title or position) if the individual has not signed the complaint or authorized release of his or her identity. A Privacy Act disclosure statement is included in the instructions for form CC-4.

11. SENSITIVE QUESTIONS

Although the CC-4 does not specifically request sensitive information related to a complainant's disability or other protected information, the complainant may disclose such information when describing the circumstances that led to filing the complaint on Page 2 of the form. As noted in number 10 (above), a Privacy Act disclosure statement is included in the instructions with the form.

12. ESTIMATE OF INFORMATION COLLECTION BURDEN HOURS

During the last three fiscal years (FY 2011, FY 2012 and FY 2013), OFCCP received 670, 781 and 790 complaints, respectively, for a three year total of 2,241 complaints. Therefore, on average, OFCCP receives approximately, 747 complaints annually. It is also estimated, based on the agency's experience assisting complainants, that it will take an average of 1 hour for a complainant to complete and submit the form. Therefore, it is projected that the collection of information will impose an aggregate burden of 747 hours (i.e., 747 complaints multiplied by 1 hour). OFCCP estimates that the cost of completing the CC-4 is $15,291.09 (i.e., 747 hours multiplied by $20.47 per hour).⁷

⁷ OFCCP used the average private industry employers spend in employee wages and salaries as reported in Employer Costs for Employee Compensation, June 2013, United States Department of Labor, Bureau of Labor Statistics, p. 10, Table 5, http://www.bls.gov/news.release/pdf/ecec.pdf.

13. ANNUAL OPERATION AND MAINTENANCE COST BURDEN TO RESPONDENTS

There are no capital or start-up costs associated with filing a complaint.

The actual out-of-pocket cost for the complainant is estimated at 46¢ for stamps, 20¢ for paper and copying plus 4¢ for envelopes which equal 70¢. OFCCP receives approximately 747 complaints of which 90% (or 672 complaints) are submitted electronically by either facsimile or email. The remaining 10% or 75 complaints are sent by mail. Therefore, it is estimated that the filing of the 75 complaints mailed will cost $52.50 (75 complaints multiplied by $0.70 for postage, paper and envelope).

14. ESTIMATE OF COST TO FEDERAL GOVERNMENT

The cost to the Federal Government (OFCCP) for receiving the forms, reviewing them for jurisdiction and timeliness, and determining their disposition is estimated at $57,436.83 (747 complaints multiplied by a cumulative labor cost of $76.89 per complaint).

The Federal labor cost reflects the 2.25 hours it takes OFCCP staff to process the form and includes one hour for an administrative support staff (GS-6) to review the complaint and check jurisdiction, one hour for a professional staff (GS-13) to verify the jurisdiction and prepare correspondence, and 0.25 hours for a manager (GS-14) to review and sign the documents. This cost was determined by surveying OFCCP's regional offices on the amount of time it takes to process a complaint. The calculation for the labor costs are detailed below.

Grade/Step | Wage Rate ⁸ | Time (hours) | Total (wage rate × hours)
6/10 | $19.05 | 1 | $19.05
13/10 | $44.65 | 1 | $44.65
14/10 | $52.76 | 0.25 | $13.19
Cumulative labor cost per complaint | $76.89

15. CHANGE IN BURDEN HOURS

Based on the three-year average of complaints received, OFCCP expects to process more complaints (747) than under the previous approved ICR (602). Yet, with the shorter and easier form OFCCP estimates that complainants will spend less time completing the revised CC-4, thus resulting in an overall decrease in burden. The reduction in burden hours is detailed in the chart below.

⁸ Average hourly rates are from the Office of Personnel Management (OPM) 2013 General Schedule Salary Table.

| Responses | Burden hours
Current | 602 | 771
Proposed | 747 | 747
Adjustment increase/decrease | +145 | −24

16. STATISTICAL USES AND PUBLICATION OF DATA

OFCCP will not publish the data collected as a result of the items contained in this request as statistical tables.

17. APPROVAL TO NOT DISPLAY THE EXPIRATION DATE

OFCCP does not seek approval to not display the expiration date.

18. EXCEPTION TO THE CERTIFICATION STATEMENT

There are no exceptions to the certification statement.

BILLING CODE 4510-CM-P

BILLING CODE 4510-CM-C

U.S. Department of Labor

Office of Federal Contract Compliance Programs

Complaint of Employment Discrimination by Federal Government Contractors or Subcontractors

Use this form to file an employment discrimination or retaliation complaint under any of the three laws enforced by the Office of Federal Contract Compliance Programs (OFCCP):

• Executive Order 11246, as amended,

• Section 503 of the Rehabilitation Act of 1973, as amended, and

• the Vietnam Era Veterans' Readjustment Assistance Act of 1974, as amended.

These laws make it illegal for companies doing business with the Federal Government to discriminate against applicants and employees based on race, color, religion, sex, national origin, disability status or status as a protected veteran.

Instructions:

Print or type the information when filling in the form. Tell us what happened to you that you believe caused discrimination or retaliation, and who did it to you. Also tell us where and when things happened, who saw what happened, and who has information about what happened to you.

When describing what happened on page two of the form, tell us how it changed your work. For example, let us know if it caused you not to be hired for a job, or caused you to be fired, demoted, lose a promotion, or have your job assignment changed. Tell us if what happened caused you to get laid-off. We also want to know if what happened involved training, pregnancy leave, harassment, wages, pay, benefits, accommodation for a disability or for religious observances, segregation of facilities, or recall back to work.

You can use a separate piece of paper to continue telling us what happened to you if you need more space to write. Remember to attach the extra piece of paper to the complaint form when you are done.

If you are filing a complaint of discrimination because of your veteran status, remember to attach your Report of Separation and a Certificate of Release or Discharge from Active Duty (also known as DD Form 214). If one is not provided, we will ask you to provide one.

Where to file the complaint?

You should send the completed form to the OFCCP regional office that covers the state where the alleged discrimination occurred. Send OFCCP your form by U.S. mail, fax, or email. A list of regional offices and the states that each office covers can be found at: http://www.dol.gov/ofccp/contacts/regkeyp.htm.

When to file a complaint?

Complaints based on your race, color, religion, sex/gender, or national origin must be filed within 180 days after the last act taken by your employer that you think was either discrimination or retaliation.

Complaints based on your disability or status as a protected veteran must be filed within 300 days from the last act taken by your employer that you think was either discrimination or retaliation.

Only the director of OFCCP can extend these deadlines.

Non-Retaliation

OFCCP regulations, Title VII and the ADA require employers to take all necessary steps to assure that there is no retaliation against any person who files a complaint or assists in its investigation. This includes any intimidation, threat, coercion or discrimination. Please notify OFCCP immediately if you believe that you have experienced such retaliation.

Privacy Act Statement

Executive Order 11246, as amended, Section 503 of the Rehabilitation Act of 1973, as amended, and the Vietnam Era Veterans' Readjustment Assistance Act of 1974, as amended (38 U.S.C. 4212), Title VII of the Civil Rights Act of 1964 (Title VII), as amended and Title I of the Americans with Disabilities Act of 1990 (ADA), as amended authorize the collection of this information. OFCCP uses this information to process complaints and conduct investigations of alleged violations of the above laws. OFCCP will provide a copy of this complaint to the employer against whom it is filed, and when the matters alleged are covered by Title VII and/or the ADA, to the U.S. Equal Employment Opportunity Commission (EEOC). The information collected may be: 1) verified with others who may have knowledge relevant to the complaint; 2) used in settlement negotiations with the employer or in the course of presenting evidence at a hearing; or 3) disclosed to other agencies with jurisdiction over the complaint.

Providing this information is voluntary; however, failure to provide the information may delay or prevent OFCCP from investigating your complaint and, for matters covered by Title VII or the ADA, may affect your right to sue under those laws.

Public Burden Statement

The estimated time to complete this form is 1 hour, including time for reviewing instructions, filling out the form and sending it to OFCCP. Please note that you are not required to respond to this collection of information unless it displays a currently valid OMB Control Number.

If you have comments regarding the estimate or any other aspect of this complaint form, including suggestions for reducing the burden, send them to the OFCCP Policy Division (1250-0002), 200 Constitution Avenue, N.W., Room C3325, Washington, D.C. 20210. Please do not send the completed complaint form to this address.

Definitions:

Veterans Status ⁹ includes the following categories of protected veterans:

⁹ 41 CFR 60-300.2

Disabled Veteran—A veteran of the United States military, ground, naval or air service who is entitled to compensation (or who but for the receipt of military retired pay would be entitled to compensation) under laws administered by the Secretary of Veterans Affairs, or a veteran who was discharged or released from active duty because of a service-connected disability.

Armed Forces Service Medal Veteran—A veteran who, while serving on active duty in the U.S. military, ground, naval or air service, participated in a United States military operation for which an Armed Forces service medal was awarded.

Recently Separated Veteran—Any veteran who was discharged or released from active duty in the U.S. military ground, naval, or air service three years or fewer from the date of the alleged discriminatory or retaliatory activity.

Active Duty Wartime or Campaign Badge Veteran—A veteran who served on active duty in the U.S. military, ground, naval, or air service during a war or in a campaign or expedition for which a campaign badge has been authorized, under the laws administered by the Department of Defense.

Pre-JVA Veteran—A veteran who is an employee of or applicant to a contractor with a contract of $25,000 or more entered into prior to December 1, 2003 and unmodified since to $100,000 or more, and who is a special disabled veteran, veteran of the Vietnam era, pre-JVA recently separated veteran, or other protected veteran as defined below:

Special Disabled Veteran—A veteran who is entitled to compensation (or who but for the receipt of military retired pay would be entitled to compensation) under the laws administered by the Department of Veterans Affairs for disability; rated at 30 percent or more; or rated at 10 or 20 percent in the case of a veteran who has been determined under 38 U.S.C. 3106 to have a serious employment handicap; or a person who was discharged or released from active duty because of a service connected disability.

Veteran of the Vietnam Era—A veteran who served on active duty for a period of more than 180 days, and was discharged or released with other than a dishonorable discharge, if any part of such active duty occurred in the Republic of Vietnam between February 28, 1961 and May 7, 1975; or between August 5, 1964 and May 7, 1975, in all other cases; or was discharged or released from active duty for a service-connected disability if any part of such active duty was performed in the Republic of Vietnam between February 28, 1961 and May 7, 1975; or between August 5, 1964 and May 7, 1975.

Pre-JVA Recently Separated Veteran—A pre-JVA recently separated veteran means a pre-JVA veteran separated during the one-year period beginning on the date of the pre-JVA veteran's discharge or release from active duty.

Other Protected Veteran—A veteran who served on active duty during a war or in a campaign or expedition for which a campaign badge has been authorized, under the laws administered by the Department of Defense.

[FR Doc. 2014-02426 Filed 2-4-14; 8:45 am]

BILLING CODE 4510-CM-P